DEPARTMENT OF DEFENSE

Defense Acquisition Regulations System

48 CFR Part 225

[Docket DARS-2023-0042]

RIN 0750-AL40

Defense Federal Acquisition Regulation Supplement: Limitation on the Acquisition of Certain Goods Other Than United States Goods (DFARS Case 2021-D022); Correction

AGENCY: Defense Acquisition Regulations System, Department of Defense (DoD).

ACTION: Correcting amendment.

SUMMARY: DoD is correcting final regulations that published in the Federal Register on May 30, 2024, to correct the prescription for a clause regarding the acquisition of certain satellite components.

DATES: Effective June 6, 2024.

FOR FURTHER INFORMATION CONTACT: Jennifer D. Johnson, telephone 703-717-8226.

SUPPLEMENTARY INFORMATION: On May 30, 2024, DoD published in the Federal Register at 89 FR 46811 a final rule titled “Limitation on the Acquisition of Certain Goods Other Than United States Goods”. The purpose of this correction is to reflect that the prescription at DFARS 225.7004-7, paragraph (d), should specify use of the clause at 252.225-7064, Restriction on Acquisition of Certain Satellite Components, in solicitations and contracts for the acquisition of star trackers for certain satellites.

List of Subjects in 48 CFR Part 225

Government procurement.

Jennifer D. Johnson,
Editor/Publisher, Defense Acquisition Regulations System.

Therefore, 48 CFR part 225 is amended as follows:

PART 225—FOREIGN ACQUISITION

1. The authority citation for 48 CFR part 225 continues to read as follows:

Authority: 41 U.S.C. 1303 and 48 CFR chapter 1.

2. Amend section 225.7004-7 by revising paragraph (d) introductory text to read as follows:

225.7004-7 Contract clauses.

* * * * *

(d) Use the clause at 252.225-7064, Restriction on Acquisition of Certain Satellite Components, in solicitations and contracts, including solicitations and contracts using FAR part 12 procedures for the acquisition of commercial products and commercial services, that exceed the simplified acquisition threshold and that include the acquisition of star trackers unless—

* * * * *

[FR Doc. 2024-12401 Filed 6-5-24; 8:45 am]

BILLING CODE 6001-FR-P